SURFACE TRANSPORTATION BOARD

[Docket No. EP 519 (Sub-No. 4)]

Notice of National Grain Car Council Meeting

AGENCY: Surface Transportation Board.

ACTION: Notice of National Grain Car Council meeting.

SUMMARY: Notice is hereby given of a meeting of the National Grain Car Council (NGCC), pursuant to the Federal Advisory Committee Act, 5 U.S.C., app. 2 10(a)(2).

DATES: The meeting will be held on Thursday, September 15, 2016, beginning at 1 p.m. (CDT), and is expected to conclude at 5 p.m. (CDT).

ADDRESSES: The meeting will be held at the Chase Park Plaza Hotel, 212 North Kingshighway Boulevard, Saint Louis, MO 63108. Phone (314) 858-8734.

FOR FURTHER INFORMATION CONTACT: Fred Forstall at (202) 245-0241 or alfred.forstall@stb.dot.gov. [Assistance for the hearing impaired is available through the Federal Information Relay Service (FIRS) at: (800) 877-8339].

SUPPLEMENTARY INFORMATION: The NGCC was established by the Interstate Commerce Commission (ICC) as a working group to facilitate private-sector solutions and recommendations to the ICC (and now the Board) on matters affecting rail grain car availability and transportation. Nat'l Grain Car Supply—Conference of Interested Parties, EP 519 (ICC served Jan. 7, 1994).

The general purpose of this meeting is to discuss rail carrier preparedness to transport the 2016 grain harvest. Agenda items include the following: remarks by Board Chairman Daniel R. Elliott III, Board Vice Chairman and NGCC Co-Chairman Deb Miller, and Commissioner Ann D. Begeman; reports by member groups on expectations for the upcoming harvest, domestic and foreign markets, the supply of rail cars and rail service; and a presentation on disruptive agricultural technologies. The full agenda, along with other information regarding the NGCC, is posted on the Board's Web site at http://www.stb.dot.gov/stb/rail/graincar_council.html.

The meeting, which is open to the public, will be conducted pursuant to the Federal Advisory Committee Act, 5 U.S.C. app. 2; Federal Advisory Committee Management, 41 CFR pt. 102-3; the NGCC Charter; and Board procedures.

Public Comments: Members of the public may submit written comments to the NGCC at any time. Comments should be addressed to NGCC, c/o Fred Forstall, Surface Transportation Board, 395 E Street, SW., Washington, DC 20423-0001 or alfred.forstall@stb.dot.gov. Any further communications about this meeting will be announced through the STB Web site.

Decided: August 25, 2016.
By the Board, Rachel D. Campbell, Director, Office of Proceedings.
Marline Simeon,
Clearance Clerk.

[FR Doc. 2016-20848 Filed 8-29-16; 8:45 am]

BILLING CODE 4915-01-P